DEPARTMENT OF HOMELAND SECURITY

Coast Guard

[Docket No. USCG-2013-0491]

Consolidation of Officer in Charge, Marine Inspection For Outer Continental Shelf Activities; Eighth Coast Guard District

AGENCY: Coast Guard, DHS.

ACTION: Notice and request for comments.

SUMMARY: The Coast Guard is considering establishing a single Officer in Charge, Marine Inspection (OCMI) to oversee marine inspections for all Mobile Offshore Drilling Units and Floating Outer Continental Shelf Facilities (as defined in Coast Guard regulations) engaged directly in, capable of engaging directly in, or being constructed to engage directly in oil and gas exploration or production in the offshore waters of the Eighth Coast Guard District (referred to hereafter collectively as “units”). Currently, these units are inspected by six separate OCMI offices across the Eighth Coast District. The Coast Guard believes that the consolidation of the six existing OCMI offices into one will promote efficiency and consistency for both the Coast Guard and the regulated industry.

DATES: Comments and related material must be received on or before September 6, 2013.

ADDRESSES: You may submit comments identified by docket number USCG-2013-0491 using any one of the following methods:

(1) Online: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

If you have questions on this notice, call or email Commander Michael Zamperini, U.S. Coast Guard; telephone (202) 372-1230, email Michael.B.Zamperini@uscg.mil. If you have questions on viewing or submitting material to the docket, call Barbara Hairston, Program Manager, Docket Operations, telephone 202-366-9826.

SUPPLEMENTARY INFORMATION:

A. Public Participation and Request for Comments

We encourage you to submit comments and related material in response to this notice. All comments received will be posted, without change, to http://www.regulations.gov and will include any personal information you have provided.

Submitting comments: If you submit a comment, please include the docket number for this notice (USCG-2013-0491) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, and follow the instructions on that Web site. If you submit your comments by mail or hand delivery, submit them in an unbound format, no larger than 8½ by 11 inches, suitable for copying and electronic filing. If you submit comments by mail and would like to know that they reached the Facility, please enclose a stamped, self-addressed postcard or envelope. We will consider all comments and material received during the comment period and may change this proposed rule based on your comments.

B. Viewing Comments and Documents

To view comments, go to http://www.regulations.gov, and follow the instructions on that Web site. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not now plan to hold a public meeting. But you may submit a request for one to the docket using one of the methods specified under ADDRESSES. In your request, explain why you believe a public meeting would be beneficial. If we determine that one would aid this rulemaking, we will hold one at a time and place announced by a later notice in the Federal Register.

Basis and Purpose

The Eighth Coast Guard District in New Orleans, Louisiana has six OCMI field offices located along the Gulf Coast in Mobile, Alabama; New Orleans, Louisiana; Morgan City, Louisiana; Port Arthur, Texas; Houston, Texas; and Corpus Christi, Texas. Currently, each of these offices has full OCMI authority to conduct inspections of all vessels required to undergo Coast Guard inspection within their respective zones as defined in 33 CFR part 3. The functions of an OCMI are found in 33 CFR 1.01-20 and include inspection of vessels in order to determine that they comply with the applicable laws, rules, and regulations relating to safe construction, equipment, manning, and operation and that they are in a seaworthy condition for the services in which they are operated.

At the six field offices listed above, the OCMI also serves as the commanding officer of the unit. The title “commanding officer” refers to the highest ranking military official at a Coast Guard field office. In addition to being geographically separated from the Eighth Coast Guard District office, commanding officers exercise independent military justice and disciplinary authority over their entire staff. Commanding officers in the Eighth Coast Guard District report directly to the Eighth Coast Guard District Commander in New Orleans. Commanding officers also serve other statutory functions within their geographic area such as Federal On-Scene Coordinator (FOSC) for oil and hazardous material spills, Captain of the Port (COTP), and Federal Maritime Security Coordinator (FMSC). As OCMIs, they have authority to independently render decisions effecting the approval or disapproval of certain vessels to operate on the OCS. Any appeal of a decision made by an OCMI is made to the District Commander in accordance with 33 CFR 1.03-20.

In order to understand the various options discussed later in this notice, it is important to note that the Eighth Coast Guard District Commander also has various division chiefs on staff. Unlike commanding officers, division chiefs do not exercise military justice authority over their staffs and are co-located with the District Commander. Division chiefs report directly to the District Commander and historically have not served as OCMI, FOSC, COTP, or FMSC. Should the role of OCMI be assigned to a division chief, appeals from the OCMI level would also be made to the District Commander.

Vessels requiring Coast Guard inspection include Mobile Offshore Drilling Units (MODUs), Floating Outer Continental Shelf (OCS) Facilities (as defined in 33 CFR 140.10), and other similar vessels that engage in oil and gas exploration and production on the OCS. Coast Guard OCMIs are required to inspect these units when they are operating on the OCS.

The offshore oil and gas industry is currently experiencing substantial growth in the Gulf of Mexico. As a result, unit construction and operation in the Gulf of Mexico is expected to increase by 60% in the next five years. In order to keep pace with this growth, the Coast Guard is considering ways to increase efficiency and streamline inspection of offshore units. We are considering creating one office to serve as OCMI for MODUs and Floating OCS facilities, creating a single point of contact for scheduling inspections and promoting consistency of regulatory interpretation and enforcement across the Gulf for units operating on the OCS. At this time, we are not suggesting the inclusion of support vessels such as offshore supply vessels, crew boats, accommodation vessels, and similar vessels that routinely call on ports as falling under the authority of the OCS OCMI. Those vessels would continue to be inspected by the six existing OCMIs.

We are seeking public comment on the following questions to assist us in determining whether consolidating the OCMI function as described above is advisable and, if so, the manner in which it should be implemented:

(1) Do you support the consolidation of the OCMI function into a single office for the oversight and inspection of units operating on the OCS in the Eighth Coast Guard District? Why or why not?

(2) If a consolidated OCMI for the OCS were created, which of the following options is the most appropriate organizational placement of the consolidated OCMI within the Eighth Coast Guard District? (In each of the scenarios below, appeals to decisions made by the consolidated OCMI would be made to the Eighth Coast Guard District Commander.) Are there other options we should consider?

(a) Consolidate the OCMI function into one of the six existing OCMIs. This OCMI would retain the title of commanding officer they already have at their current unit, but their OCMI authority to inspect units would be expanded to include all of the Eighth Coast Guard District.

(b) Make the consolidated OCMI a member of the staff of one of the six existing OCMIs. This OCMI would not hold the title of commanding officer.

(c) Make the consolidated OCMI a division chief on the Eighth Coast Guard District staff. This OCMI would not hold the title of commanding officer.

(d) Create a new command separate from the existing six OCMI commands with the consolidated OCMI as the commanding officer.

(3) If the consolidated OCMI for the OCS were created, where in the Eighth Coast Guard District should the offices of the consolidated OCMI be physically located?

We ask that all comments submitted in response to this request include the reasoning behind the comment to better inform our decision making. This request for comments should not be construed as suggesting that the Eighth Coast Guard District will create a consolidated OCMI for the OCS. Whether, and in what format, this position would be created will depend on a number of factors including public responses to this request, staffing requirements, legal constraints, and budget impacts.

Specific questions regarding this request should be addressed to Commander Michael Zamperini whose contact information is located above the “For Further Information Contact” section.

This notice is issued under the authority of 5 U.S.C 552(a), 14 U.S.C. 92, and DHS Delegation 0170.1 II (23).

Dated: August 1, 2013.
J. C. Burton,
Captain, U.S. Coast Guard, Director of Inspections & Compliance.

[FR Doc. 2013-19098 Filed 8-6-13; 8:45 am]

BILLING CODE 9110-04-P